DEPARTMENT OF AGRICULTURE

Forest Service

Ravalli Resource Advisory Committee

AGENCY: Forest Service, USDA.

ACTION: Notice of meeting.

SUMMARY: The Ravalli Resource Advisory Committee (RAC) will hold a virtual meeting. The committee is authorized under the Secure Rural Schools and Community Self-Determination Act (the Act) and operates in compliance with the Federal Advisory Committee Act. The purpose of the committee is to improve collaborative relationships and to provide advice and recommendations tothe Forest Service concerning projects and funding consistent with the Act. RAC information can be found at the following website: https://www.fs.usda.gov/main/bitterroot/workingtogether/advisorycommittees.

DATES: The meeting will be held on Tuesday, February 16, 2021, at 1:00 p.m., Mountain Time and continued on Thursday, February 18, 2021, at 1:00 p.m., Mountain Time. All RAC meetings are subject to cancellation. For status of meeting prior to attendance, please contact the person listed under For Further Information Contact.

ADDRESSES: The meeting will be held with virtual attendance only. For virtual meeting information, please contact the person listed under For Further Information Contact.

Written comments may be submitted as described under Supplementary Information. All comments, including names and addresses when provided, are placed in the record and are available for public inspection and copying. The public may inspect comments received at the Bitterroot National Forest Supervisor's Office. Contact 406-363-7100 to facilitate that inspection.

FOR FURTHER INFORMATION CONTACT: Eric Winthers, Designated Federal Officer (DFO), by phone at 406-821-4244 or via email at eric.winthers@usda.gov; or Joni Lubke at 406-363-7100 or email at joni.lubke@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Hear presentations on Title II project proposals.

2. Discuss and make decisions on which Title II project(s) to recommend for funding.

The meetings are open to the public. The agenda will include time for people to make oral statements of three minutes or less. Individuals wishing to make an oral statement at either meeting should request in writing 7 business days before to be scheduled on that meeting's agenda. Anyone who would like to bring related matters to the attention of the committee may file written statements with the committee staff before or after the meeting. Written comments and requests for time to make oral comments must be sent to Joni Lubke, RAC Coordinator, Bitterroot National Forest Supervisor's Office, 24 1801 N 1st, Hamilton, Montana 59840; or by email to joni.lubke@usda.gov.

Meeting Accommodations: If you are a person requiring reasonable accommodation, please make requests in advance for sign language interpreting, assistive listening devices, or other reasonable accommodation. For access to the facility or proceedings, please contact the person listed in thesection titled For Further Information Contact. All reasonable accommodation requests are managed on a case-by-case basis.

Dated: January 8, 2021.
Cikena Reid,
USDA Committee Management Officer.

[FR Doc. 2021-00522 Filed 1-12-21; 8:45 am]

BILLING CODE 3411-15-P